DEPARTMENT OF TRANSPORTATION

Office of the Secretary

Notice of Applications for Certificates of Public Convenience and Necessity and Foreign Air Carrier Permits Filed Under Subpart B (formerly Subpart Q) During the Week Ending August 3, 2001

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period, DOT may process the application by expedited procedures. Such procedures may consist of the adoption of a show-cause order, a tentative order, or in appropriate cases a final order without further proceedings.

Docket Number: OST-1996-1423.

Date Filed: August 1, 2001.

Due Date for Answers, Conforming Applications, or Motion to Modify Scope: August 22, 2001.

Description: Application of Continental Airlines, Inc., pursuant to 49 U.S.C. Section 41102 and Subpart B, requesting renewal of Segment 13 of its Route 29-F certificate, authorizing Continental to provide scheduled foreign air transportation of persons, property and mail between New York/Newark and Madrid and Barcelona via the Azores and Lisbon and beyond.

Cynthia L. Hatten,
Federal Register Liaison.

[FR Doc. 01-20515 Filed 8-14-01; 8:45 am]

BILLING CODE 4910-62-P